DEPARTMENT OF THE INTERIOR

Fish and Wildlife Service

Emergency Exemption: Issuance of Permit for Endangered Marine Mammals

AGENCY: Fish and Wildlife Service, Interior.

ACTION: Notice of emergency issuance of permit for endangered marine mammals.

SUMMARY: The following permit was issued.

ADDRESSES: Documents and other information submitted for this application are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On January 31, 2003, the U.S. Fish and Wildlife Service (Service) issued a permit (PRT-067519) to Red Caribena de Varamientos (Caribbean Stranding Network, Inc.), San Juan, Puerto Rico, to import one West Indian manatee (Trichechus manatus) found in distress in the waters around Virgin Gorda, British Virgin Islands, for rehabilitation and reintroduction purposes. This action was authorized under Section 10(c) of the Endangered Species Act of 1973, as amended (16 U.S.C. 1531, et seq.) and Sections 104 and 109(h) of the Marine Mammal Protection Act of 1972, as amended (16 U.S.C. 1361 et seq.). The Service determined that an emergency affecting the health and life of the manatee existed, and that no reasonable alternative was available.

On January, 17, 2003, the manatee was discovered in distress (dehydrated and emaciated) off Virgin Gorda and Tortola, BVI. The BVI Department of Conservation and Fisheries requested assistance from the applicant and the Service for relocating and rehabilitating the manatee. The manatee will be placed at the Caribbean Stranding Network's rehabilitation center at Caribbean Marine Mammal Laboratory, Universidad Metropolitana (a manatee rehabilitation facility endorsed by the Service's Jacksonville Field Office under MMPA/ESA enhancement permit PRT-770191). The goal of the importation is to rehabilitate and release the animal back into the wild as soon as feasible.

The U.S. Fish and Wildlife Service has information collection approval from OMB through March 31, 2004, OMB Control Number 1018-0093. Federal agencies may not conduct or sponsor and a person is not required to respond to a collection of information unless it displays a current valid OMB control number.

Dated: February 11, 2003.
Charlie R. Chandler,
Chief, Branch of Permits—Domestic, Division of Management Authority.

[FR Doc. 03-4303 Filed 2-19-03; 1:47 pm]

BILLING CODE 4310-55-P